DEPARTMENT OF DEFENSE

Department of the Army; Corps of Engineers

Intent To Prepare a Draft Environmental Impact Statement for the Construction and Operation of an Open Pit Taconite Mine Proposed by Ispat Inland Mining Between Biwabik and McKinley in St. Louis County, MN

AGENCY: Department of the Army, U.S. Army Corps of Engineers, DOD.

ACTION: Notice of intent.

SUMMARY: Ispat Inland Mining (Ispat) has applied to the St. Paul District, Corps of Engineers (Corps) for a permit to discharge dredged or fill material into wetlands to facilitate the construction and operation of a taconite mine consisting of two conventional open pits in a deposit known as the East Reserve (formerly known as the J&L East Reserve) between Biwabik and McKinley in St. Louis County, MN. The combined area of the two open pits would be 364 acres. The proposed pits contain an estimated 116,000,000 long tons of ore. The ore would be hauled by truck approximately 1.9 miles on a proposed new haul road spur and then an additional 5.5 miles on an existing haul road to Ispat's currently permitted and operating Minorca taconite processing facility north of Virginia, MN. Tailing waste would be disposed of in Ispat's currently permitted and operating Minorca and Upland tailings basins. The mining process would require the construction of overburden, waste rock, and lean ore stockpiles on the north side of the proposed pits. The total stockpile area would cover approximately 375 acres. Project plans call for the mining of an average of just over six million long tons of crude ore per year over the proposed 18-year life of the mine. The project would allow mining operations and taconite processing at the Minorca Plant to continue until 2024.

The project would require the discharge of dredged or fill material into approximately 75.7 acres of wetlands. While some of the wetlands may be isolated, the majority of the wetlands are adjacent to an unnamed tributary to the Embarrass River, which is a tributary to the St. Louis River, which is a navigable water of the U.S., or the wetlands are adjacent to an unnamed tributary to the Pike River, which is a navigable water of the United States. Ispat proposes to utilize wetland credits from the existing Ispat Inland wetland mitigation bank in Aitkin County, MN to compensate for the lost wetland functions and values that would be caused by the proposed project. The discharge of dredged or fill material into waters of the United States requires a permit issued by the Corps under Section 404 of the Clean Water Act. The final environmental impact statement will be used as a basis for the permit decision and to ensure compliance with the National Environmental Policy Act (NEPA).

ADDRESSES: Questions concerning the Draft Environmental Impact Statement (DEIS) can be addressed to Mr. Jon K. Ahlness, Regulatory Branch by letter at U.S. Army Corps of Engineers, 190 Fifth Street East, Suite 401, St. Paul, MN 55101-1638, by telephone or by e-mail at jon.k.ahlness@mvp02.usace.army.mil.

FOR FURTHER INFORMATION CONTACT: Mr. Jon K. Ahlness, (651) 290-5381.

SUPPLEMENTARY INFORMATION: The Corps and the State of Minnesota will jointly prepare the DEIS. The Corps is the lead federal agency and the Minnesota Department of Natural Resources (MnDNR) is the lead agency. The MnDNR has already completed its scoping process and had hired a consultant to prepare its DEIS. The Corps is joining with the MnDNR to prepare a joint Federal/State DEIS. The Corps, with assistance from the MnDNR, will prepare and release to the public a Draft Scoping Decision Document, along with the MnDNR Scoping Environmental Assessment Worksheet (EAW). The public will have 30 days to provide comments on those two documents. In accordance with 40 CFR 1506.5(c) and Corps policy, the Corps will determine the suitability of the MnDNR consultant for Federal purposes. We anticipate that the DEIS will be available to the public in May of 2006.

The DEIS will assess impacts of the proposed action and reasonable alternatives, identify and evaluate mitigation alternatives, and discuss potential environmental monitoring. Significant issues and resources to be identified in the DEIS will be determined through coordination with responsible federal, state, and local agencies; the general public; interested private organizations and parties; and affected Native American Tribes. Anyone who has an interest in participating in the development of the DEIS is invited to contact the St. Paul District, Corps of Engineers. Major issues identified to date for discussion in the DEIS are the impacts of the proposed project on:

1. Fish, wildlife, and ecologically sensitive resources.

2. Water resources, including: Water use and potential impacts to the water supplies of Biwabik and McKinley; surface water hydrology; groundwater hydrology; waters of the U.S., including wetlands; and receiving stream geomorphology.

3. Water quality, including: Surface water runoff; storm water management; and mercury discharges from pit dewatering.

4. Cumulative impacts, including: Wildlife habitat loss/fragmentation and habitat corridor obstruction/landscape barriers; wetlands; and water flow/volume and water quality in unnamed streams and the Embarrass River.

Additional issues of interest may be identified through the public scoping process.

Issuing a permit for the development of an open pit taconite mine is considered to be a major Federal action that may have a significant impact on the quality of the human environment. The project: (1) Would have a significant adverse effect on wetlands (which are special aquatic sites), and (2) has the potential to significantly affect water quality, groundwater, fish, and wildlife. Our environmental review will be conducted to the requirements of the National Environmental Policy Act of 1969, National Historic Preservation Act of 1966, Council of Environmental Quality Regulations, Endangered Species Act of 1973, Section 404 of the Clean Water Act, and other applicable laws and regulations.

Dated: January 29, 2006.
Michael F. Pfenning,
Colonel, Corps of Engineers, District Engineer.

[FR Doc. 06-1212 Filed 2-8-06; 8:45 am]

BILLING CODE 3710-CY-M